DEPARTMENT OF TRANSPORTATION

Federal Aviation Administration

14 CFR Part 39

[Docket No. FAA-2010-0279; Directorate Identifier 2009-NM-148-AD; Amendment 39-16496; AD 2010-23-07]

RIN 2120-AA64

Airworthiness Directives; Airbus Model A318, A319, A320, and A321 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Surface defects were visually detected on the rudder of one A319 and one A321 in-service aeroplane.

Investigation has determined that the defects reported on both rudders corresponded to areas that had been reworked in production. The investigation confirmed that the defects were a result of de-bonding between the skin and honeycomb core.

An extended de-bonding, if not detected and corrected, may degrade the structural integrity of the rudder. The loss of the rudder leads to degradation of the handling qualities and reduces the controllability of the aeroplane.

* * * * *

We are issuing this AD to require actions to correct the unsafe condition on these products.

DATES: This AD becomes effective December 10, 2010.

The Director of the Federal Register approved the incorporation by reference of certain publications listed in this AD as of December 10, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on April 2, 2010 (75 FR 16689). That NPRM proposed to correct an unsafe condition for the specified products. The MCAI states:

Surface defects were visually detected on the rudder of one A319 and one A321 in-service aeroplane.

Investigation has determined that the defects reported on both rudders corresponded to areas that had been reworked in production. The investigation confirmed that the defects were a result of de-bonding between the skin and honeycomb core.

An extended de-bonding, if not detected and corrected, may degrade the structural integrity of the rudder. The loss of the rudder leads to degradation of the handling qualities and reduces the controllability of the aeroplane.

This AD requires inspections of specific areas and, when necessary, the application of corrective actions for those rudders where production reworks have been identified.

Inspections include vacuum loss inspections for de-bonding of the rudders in reinforced areas and other areas (splice/lower rib/upper edge/leading edge/other specified locations), and elasticity laminate checks for de-bonding of the rudders in the trailing edge area and other areas (splice/lower rib/upper edge/leading edge/other specified locations). Corrective actions include contacting Airbus for further instruction and doing the repair.

You may obtain further information by examining the MCAI in the AD docket.

Comments

We gave the public the opportunity to participate in developing this AD. We considered the comment received.

Request To Clarify Additional Work in Paragraph (k) of the Proposed AD

Airbus requested that we clarify in paragraph (k) of the proposed AD that there is additional work for operators to comply with, i.e., in Airbus All Operators Telex (AOT) A320-55A1038, Revision 02, dated September 28, 2009. Airbus explained that there is an additional ultrasonic inspection for rudders on which a temporary vacuum loss hole restoration with resin or a permanent vacuum loss hole restoration has been performed previously in the reinforced area.

We agree that additional work is included in Airbus AOT A320-55A1038, Revision 02, dated September 28, 2009, which is referenced in the NPRM as the appropriate source of service information. However, the additional work specified in Airbus AOT A320-55A1038, Revision 02, dated September 28, 2009, is not required by this final rule. Therefore, we have revised paragraphs (g) and (h) of the final rule to allow operators to perform the required actions of this AD in accordance with Airbus AOT A320-55A1038, Revision 01, dated June 10, 2009; or Revision 02, dated September 28, 2009. Also, we have revised paragraph (k) of this AD by removing reference to Airbus AOT A320-55A1038, Revision 02, dated September 28, 2009, to clarify that only the additional areas specified in Airbus AOT A320-55A1038, Revision 01, dated June 10, 2009, must be inspected. We might consider further rulemaking to address the additional work specified in Airbus AOT A320-55A1038, Revision 02, dated September 28, 2009.

Request To Include Alternative Contact Address for Positive Findings

Airbus requested that we include the Airbus Technical Aircraft on Ground (AOG) Center (AIRTAC) as a contact to report positive findings from the inspections in paragraphs (g) and (h) of the NPRM.

We agree to include the AIRTAC as a contact and have revised paragraph (j) of the final rule accordingly.

Clarification of Paragraph (l) of This AD

We have clarified the statement “unless the rudder is in compliance with this AD” in paragraph (l) of this AD by specifying that applicable inspections in paragraphs (g) or (h) of this AD must be done and applicable actions in paragraph (i) of this AD must be done.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 155 products of U.S. registry. We also estimate that it will take about 11 work-hours per product to comply with the basic requirements of this AD. The average labor rate is $85 per work-hour. Based on these figures, we estimate the cost of this AD to the U.S. operators to be $144,925, or $935 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-23-07 Airbus: Amendment 39-16496. Docket No. FAA-2010-0279; Directorate Identifier 2009-NM-148-AD.

Effective Date

(a) This airworthiness directive (AD) becomes effective December 10, 2010.

Affected ADs

(b) None.

Applicability

(c) This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category, all manufacturer serial numbers (S/Ns), if equipped with carbon fiber reinforced plastic rudders having part numbers (P/Ns) and S/Ns as listed in Table 1 of this AD.

Table 1—Rudder Part Number and Affected Rudder Serial Number
Rudder P/N | Affected rudder S/N
D554 71000 010 00 | TS-1069
D554 71000 010 00 | TS-1090
D554 71000 012 00 | TS-1227
D554 71000 014 00 | TS-1350
D554 71000 014 00 | TS-1366
D554 71000 014 00 | TS-1371
D554 71000 014 00 | TS-1383
D554 71000 014 00 | TS-1387
D554 71000 016 00 | TS-1412
D554 71000 018 00 | TS-1443
D554 71000 018 00 | TS-1444
D554 71000 018 00 | TS-1468
D554 71000 020 00 | TS-1480
D554 71000 020 00 | TS-1491
D554 71000 020 00 | TS-1495
D554 71000 020 00 | TS-1498
D554 71000 020 00 | TS-1499
D554 71000 020 00 | TS-1500
D554 71000 020 00 | TS-1505
D554 71000 020 00 | TS-1506
D554 71000 020 00 | TS-1507
D554 71000 020 00 | TS-1509
D554 71000 020 00 | TS-1515
D554 71000 020 00 | TS-1528
D554 71000 020 00 | TS-1530
D554 71000 020 00 | TS-1532
D554 71000 020 00 | TS-1535
D554 71000 020 00 | TS-1536
D554 71000 020 00 | TS-1538
D554 71000 000 00 | TS-1537
D554 71001 00 000 | TS-1540
D554 71001 000 00 | TS-1541
D554 71001 000 00 | TS-1543
D554 71001 000 00 | TS-1548
D554 71001 000 00 | TS-1549
D554 71001 000 00 | TS-1551
D554 71001 000 00 | TS-1554
D554 71001 000 00 | TS-1555
D554 71001 000 00 | TS-1556
D554 71001 000 00 | TS-1557
D554 71001 000 00 | TS-1559
D554 71001 000 00 | TS-1562
D554 71001 000 00 | TS-1563
D554 71001 000 00 | TS-1564
D554 71001 000 00 | TS-1565
D554 71001 000 00 | TS-1566
D554 71001 000 00 | TS-1567
D554 71001 000 00 | TS-1568
D554 71001 000 00 | TS-1569
D554 71001 000 00 | TS-1570
D554 71001 000 00 | TS-1573
D554 71001 000 00 | TS-1575
D554 71001 000 00 | TS-1578
D554 71001 000 00 | TS-1579
D554 71001 000 00 | TS-1580
D554 71001 000 00 | TS-1581
D554 71001 000 00 | TS-1582
D554 71001 000 00 | TS-1584
D554 71001 000 00 | TS-1593
D554 71001 000 00 | TS-1594
D554 71001 000 00 | TS-1596
D554 71001 000 00 | TS-1599
D554 71001 000 00 | TS-1603
D554 71001 000 00 | TS-1609
D554 71001 000 00 | TS-1621
D554 71001 000 00 | TS-1626
D554 71001 000 00 | TS-1627
D554 71001 000 00 | TS-1635
D554 71001 000 00 | TS-1637
D554 71002 000 00 | TS-2306
D554 71002 000 00 0001 | TS-2003
D554 71002 000 00 0001 | TS-2005
D554 71002 000 00 0001 | TS-2013
D554 71002 000 00 0001 | TS-2016
D554 71002 000 00 0001 | TS-2019
D554 71002 000 00 0001 | TS-2020
D554 71002 000 00 0001 | TS-2022
D554 71002 000 00 0001 | TS-2024
D554 71002 000 00 0001 | TS-2026
D554 71002 000 00 0001 | TS-2031
D554 71002 000 00 0001 | TS-2033
D554 71002 000 00 0001 | TS-2043
D554 71002 000 00 0001 | TS-2047
D554 71002 000 00 0001 | TS-2048
D554 71002 000 00 0001 | TS-2054
D554 71002 000 00 0001 | TS-2058
D554 71002 000 00 0001 | TS-2059
D554 71002 000 00 0001 | TS-2064
D554 71002 000 00 0001 | TS-Z072
D554 71002 000 00 0001 | TS-2075
D554 71002 000 00 0001 | TS-2076
D554 71002 000 00 0001 | TS-2079
D554 71002 000 00 0001 | TS-2083
D554 71002 000 00 0001 | TS-2089
D554 71002 000 00 0002 | TS-2090
D554 71002 000 00 0002 | TS-2095
D554 71002 000 00 0002 | TS-2103
D554 71002 000 00 0002 | TS-2116
D55471002 000 00 0002 | TS-2122
D554 71002 000 00 0002 | TS-2133
D554 71002 000 00 0002 | TS-2142
D554 71002 000 00 0002 | TS-2147
D554 71002 000 00 0002 | TS-2157
D554 71002 000 00 0002 | TS-2158
D554 71002 000 00 0002 | TS-2162
D554 71002 000 00 0002 | TS-2167
D554 71002 000 00 0002 | TS-2174
D554 71002 000 00 0002 | TS-2176
D554 71002 000 00 0002 | TS-2181
D554 71002 000 00 0002 | TS-2189
D554 71002 000 00 0002 | TS-2191
D554 71002 000 00 0002 | TS-2203
D554 71002 000 00 0002 | TS-2205
D554 71002 000 00 0002 | TS-2207
D554 71002 000 00 0002 | TS-2224
D554 71002 000 00 0002 | TS-2229
D554 71002 000 00 0002 | TS-2233
D554 71002 000 00 0002 | TS-2241
D554 71002 000 00 0002 | TS-2246
D554 71002 000 00 0002 | TS-2249
D554 71002 000 00 0002 | TS-2270
D554 71002 000 00 0002 | TS-2275
D554 71002 000 00 0002 | TS-2289
D554 71002 000 00 0002 | TS-2290
D554 71002 000 00 0002 | TS-2294
D554 71002 000 00 0002 | TS-2309
D554 71002 000 00 0002 | TS-2347
D554 71002 000 00 0002 | TS-2348
D554 71002 000 00 0002 | TS-2349
D554 71002 000 00 0002 | TS-2357
D554 71002 000 00 0002 | TS-2361
D554 71002 000 00 0002 | TS-2380
D554 71002 000 00 0002 | TS-2383
D554 71002 000 00 0002 | TS-2390
D554 71002 000 00 0002 | TS-2394
D554 71002 000 00 0002 | TS-2396
D554 71002 000 00 0002 | TS-2401
D554 71002 000 00 0002 | TS-2406
D554 71002 000 00 0002 | TS-2461
D554 71002 000 00 0002 | TS-2468
D554 71002 000 00 0002 | TS-2516
D554 71002 000 00 0002 | TS-2537
D554 71002 000 00 0002 | TS-2543
D554 71002 000 00 0002 | TS-2546
D554 71002 000 00 0002 | TS-2619
D554 71002 000 00 0002 | TS-2684
D554 71002 000 00 0003 | TS-2752
D554 71002 000 00 0003 | TS-2869
D554 71002 000 00 0003 | TS-2876
D554 71002 000 00 0003 | TS-2970
D554 11002 000 00 0003 | TS-2971
D554 71002 000 00 0003 | TS-2987
D554 11004 000 00 0000 | TS-3083
D554 71004 000 00 0000 | TS-3197

Note 1: Only rudder P/N D554 71000 010 00 having affected rudder S/N TS-1069 and TS-1090 and rudder P/N D554 71000 012 00 having affected rudder S/N TS-1227, have a core density of 24 kilogram (kg)/meters cubed (m³).

Subject

(d) Air Transport Association (ATA) of America Code 55: Stabilizers.

Reason

(e) The mandatory continuing airworthiness information (MCAI) states:

Surface defects were visually detected on the rudder of one A319 and one A321 in-service aeroplane.

Investigation has determined that the defects reported on both rudders corresponded to areas that had been reworked in production. The investigation confirmed that the defects were a result of de-bonding between the skin and honeycomb core.

An extended de-bonding, if not detected and corrected, may degrade the structural integrity of the rudder. The loss of the rudder leads to degradation of the handling qualities and reduces the controllability of the aeroplane.

This AD requires inspections of specific areas and, when necessary, the application of corrective actions for those rudders where production reworks have been identified.

Inspections include vacuum loss inspections for de-bonding of the rudders in reinforced areas and other areas (splice/lower rib/upper edge/leading edge/other specified locations), and elasticity laminate checks for de-bonding of the rudders in the trailing edge area and other areas (splice/lower rib/upper edge/leading edge/other specified locations). Corrective actions include contacting Airbus for further instruction and doing the repair.

Compliance

(f) You are responsible for having the actions required by this AD performed within the compliance times specified, unless the actions have already been done.

Actions

(g) For rudders with a honeycomb core density of 24 kg/m³ (rudder P/N D554 71000 010 00 having affected rudder S/Ns TS-1069 and TS-1090 and rudder P/N D554 71000 012 00 having affected rudder S/N TS-1227), do the actions specified in paragraphs (g)(1), (g)(2), (g)(3), and (g)(4) of this AD, in accordance with Airbus All Operators Telex (AOT) A320-55A1038, Revision 01, dated June 10, 2009; or Airbus AOT A320-55A1038, Revision 02, dated September 28, 2009; for the locations defined in the AOT.

(1) Within 200 days after the effective date of this AD, perform a vacuum loss inspection on the rudder reinforced area.

(2) Within 20 months after the effective date of this AD, perform an elasticity laminate checker inspection on the rudder trailing edge area. Repeat the inspection two times, at intervals not to exceed 4,500 flight cycles but not sooner than 4,000 flight cycles after the last inspection.

(3) Within 200 days after the effective date of this AD, perform an elasticity laminate checker inspection of the other areas (splice/lower rib/upper edge/leading edge/other specified locations). Repeat the inspection at intervals not to exceed 1,500 flight cycles or 200 days, whichever comes first.

(4) Within 20 months after the effective date of this AD, perform a vacuum loss inspection of the other areas (splice/lower rib/upper edge/leading edge/other specified locations). Accomplishment of the action specified in paragraph (g)(4) of this AD terminates the requirements of paragraph (g)(3) of this AD.

(h) For rudders that do not have a honeycomb core density of 24 kg/m³ (all rudders identified in Table 1 of this AD, except: Rudder P/N D554 71000 010 00 having affected rudder S/Ns TS-1069 and TS-1090 and rudder P/N D554 71000 012 00 having affected rudder S/N TS-1227), do the actions specified in paragraphs (h)(1), (h)(2), (h)(3), and (h)(4) of this AD, in accordance with Airbus AOT A320-55A1038, Revision 01, dated June 10, 2009; or Airbus AOT A320-55A1038, Revision 02, dated September 28, 2009; for the locations defined in the AOT. For this AD, “reference date” is defined as the effective date of this AD or the date when the rudder will accumulate 20,000 total flight cycles from its first installation on an airplane, whichever occurs later.

(1) Within 200 days after the reference date, perform a vacuum loss inspection on the rudder reinforced area.

(2) Within 20 months after the reference date, perform an elasticity laminate checker inspection on the rudder trailing edge area. Repeat the inspection two times at intervals not to exceed 4,500 flight cycles but not sooner than 4,000 flight cycles after the last inspection.

(3) Within 200 days after the reference date, perform an elasticity laminate checker inspection of the other areas (splice/lower rib/upper edge/leading edge/other specified locations). Repeat the inspection at intervals not to exceed 1,500 flight cycles or 200 days, whichever comes first.

(4) Within 20 months after the reference date, perform a vacuum loss inspection of the other areas (splice/lower rib/upper edge/leading edge/other specified locations). Accomplishment of the actions specified in this paragraph terminates the requirements of paragraph (h)(3) of this AD.

(i) In case of de-bonding found during any inspection required by paragraph (g) or (h) of this AD, before further flight, contact Airbus for further instructions and apply the associated instructions and corrective actions in accordance with the approved data provided.

(j) At the applicable time specified in paragraph (j)(1) or (j)(2) of this AD, submit a report of the findings (both positive and negative), of each inspection required by paragraphs (g) and (h) of this AD. The report must include the inspection results, as specified in Airbus Technical Disposition TD/K4/S2/27086/2009, Issue E, dated September 17, 2009. For positive findings, submit the report to either the Manager, Seer1/Seer2/Seer3 Customer Services; fax +33 (0)5 61 93 28 73; e-mail region1.structurerepairsupport@airbus.com, region2.structurerepairsupport@airbus.com, or region3.structurerepairsupport@airbus.com, or AIRTAC (Airbus Technical AOG Center) Customer Services; telephone +33 (0)5 61 93 34 00; fax +33 (0)5 61 93 35 00; e-mail airtac@airbus.com. For negative findings, submit the report to Nicolas Seynaeve, Sees1, Customer Services; telephone +33 (0)5 61 93 34 38; fax +33 (0)5 61 93 36 14; e-mail nicolas.seynaeve@airbus.com.

(1) For any inspection done on or after the effective date of this AD: Submit the report within 30 days after the inspection.

(2) For any inspection done before the effective date of this AD: Submit the report within 30 days after the effective date of this AD.

(k) All rudders that have passed the inspection specified in paragraphs (g)(1), (g)(2), (g)(3), (g)(4), (h)(1), (h)(2), (h)(3), and (h)(4) of this AD before the effective date of this AD, in accordance with Airbus AOT A320-55A1038, dated April 22, 2009; or Airbus Technical Disposition TD/K4/S2/27051/2009, Issue B, dated February 25, 2009; are compliant with this AD only for the areas inspected. Additional areas defined in Section 0, “Reason for Revision,” of Airbus AOT A320-55A1038, Revision 01, dated June 10, 2009, must be inspected as specified in paragraph (g) or (h) of this AD. For all areas, the repetitive inspections required by paragraph (g) or (h) of this AD remain applicable.

(l) After the effective date of this AD, no rudder listed in Table 1 of this AD may be installed on any airplane, unless the rudder is inspected in accordance with paragraph (g) or (h) of this AD, as applicable, and all applicable actions specified in paragraph (i) of this AD are done.

FAA AD Differences

Note 2: This AD differs from the MCAI and/or service information as follows: No differences.

Other FAA AD Provisions

(m) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(n) Refer to MCAI European Aviation Safety Agency Airworthiness Directive 2009-0141, dated July 2, 2009, and the service information identified in Table 2 of this AD, for related information.

Table 2—Airbus Service Information
Document | Revision/issue | Date
Airbus All Operators Telex A320-55A1038 | Revision 01 | June 10, 2009.
Airbus All Operators Telex A320-55A1038 | Revision 02 | September 28, 2009.
Airbus Technical Disposition TD/K4/S2/27086/2009 | Issue E | September 17, 2009.

Material Incorporated by Reference

(o) You must use the service information contained in Table 3 of this AD to do the actions required by this AD, unless the AD specifies otherwise.

Table 3—Material Incorporated by Reference
Document | Revision/issue | Date
Airbus All Operators Telex A320-55A1038* | Revision 01 | June 10, 2009.
Airbus All Operators Telex A320-55A1038* | Revision 02 | September 28, 2009.
Airbus Technical Disposition TD/K4/S2/27086/2009 | Issue E | September 17, 2009.
(* The first page of these documents contain the document number, revision level, and date; no other pages contain this information.)

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

.

Issued in Renton, Washington, on October 26, 2010.
Ali Bahrami,
Manager, Transport Airplane Directorate, Aircraft Certification Service.

[FR Doc. 2010-27614 Filed 11-4-10; 8:45 am]

BILLING CODE 4910-13-P